DEPARTMENT OF AGRICULTURE

Commodity Credit Corporation

Dockage Specifications for Wheat for Foreign Food Assistance Programs

AGENCY: Commodity Credit Corporation, USDA.

ACTION: Notice.

SUMMARY: The Commodity Credit Corporation (CCC) is soliciting public comment on the dockage specifications for CCC purchases of U.S. wheat for foreign food assistance programs and potential purchases under section 5(d) of the CCC Charter Act beginning in U.S. fiscal year 2003.

DATES: Written comments on this notice must be received on or before April 8, 2002 to be assured of consideration.

FOR FURTHER INFORMATION CONTACT: Please direct written correspondence to: Mary Chambliss, Acting Administrator, Foreign Agricultural Service, STOP 1001, 1400 Independence Ave. SW., Washington, DC 20250. Direct phone, fax and e-mail may be directed to: Robert Riemenschneider, Director, Grain and Feed Division, Foreign Agricultural Service, Phone: (202) 720-6219, Fax: (202) 720-0340, E-mail: riemenschnei@fas.usda.gov.

SUPPLEMENTARY INFORMATION: In June 2000, as part of the U.S. Department of Agriculture's (USDA) “Clean Wheat Initiative,” CCC announced that it would progressively tighten the standards for the cleanliness of U.S. wheat exports destined for overseas food aid. In fiscal year 2000, the maximum dockage specification for wheat purchased by the CCC for food aid was lowered from 1.0 to 0.8 percent. This specification was lowered again to 0.7 percent for fiscal year 2001 purchases.

USDA announced on February 5, 2002, that it would lower the maximum acceptable dockage level for wheat purchases by the CCC for U.S. foreign food aid programs from 0.7 percent to 0.6 percent for the remainder of fiscal year 2002. We are now seeking public comment regarding whether we should reduce the dockage level further to 0.5 percent in fiscal year 2003.

The CCC purchasing requirements for wheat will apply to CCC's food donations under the Food for Progress Act of 1985, and, with the concurrence of the United States Agency for International Development, title II of the Agricultural Trade Development and Assistance Act of 1954 (P.L. 480), and any surplus removal under section 5(d) of the CCC Charter Act.

Comments are invited on all aspects of reducing dockage for U.S. foreign food aid purchases under the Clean Wheat Initiative for fiscal year 2003 and future years, i.e., whether the dockage level should be tightened further to 0.5 percent in fiscal year 2003; whether it should remain the same, that is 0.6 percent; whether it should be relaxed; or whether CCC should abandon the Clean Wheat Initiative completely and return to the 1.0 percent dockage level that was in place prior to this initiative. Economic and/or marketing reasons should be discussed, including any likelihood that CCC may be reducing the pool of eligible suppliers of commodities resulting in an adverse impact on competition.

Mary Chambliss,
Acting Administrator, Foreign Agricultural Service and Acting Vice President, Commodity Credit Corporation.

[FR Doc. 02-5479 Filed 3-6-02; 8:45 am]

BILLING CODE 3410-10-P